DEPARTMENT OF THE INTERIOR

Bureau of Land Management

[CO-SJFO-01-0001EIS]

Notice of Availability of Draft Environmental Impact Statement

AGENCY: Bureau of Land Management.

ACTION: Notice of availability of the draft environmental impact statement oil and gas development on the southern Ute Indian reservation.

SUMMARY: Pursuant to 40 CFR 1500-1508, The Bureau of Land Management, in cooperation with the Bureau of Indian Affairs and the Southern Ute Indian Tribe, has prepared a comprehensive Draft Environmental Impact Statement to give Tribal leaders and agency decision-makers more comprehensive environmental impact information on which to base oil and gas leasing and development decisions. The document was prepared by a third party contractor chosen by BLM and its cooperators and funded by the agencies, the Southern Ute Tribe, and oil and gas lessees.

DATES: Written comments will be accepted on the Draft Environmental Impact Statement for a period until, on, or before March 6, 2001.

ADDRESSES: Please address questions, comments, or request for copies of the DEIS to the Bureau of Land Management, San Juan Field Office, Attn: Donald Englishman, 15 Burnett Court, Durango, CO 81310.

FOR FURTHER INFORMATION CONTACT: Donald Englishman at the above address or phone: 970-385-1346.

SUPPLEMENTARY INFORMATION: A limited number of individual copies of the DEIS may be obtained from the Bureau of Land Management, 15 Burnett Court, Durango, CO 81301.

Dated: December 20, 2000.
Calvin N. Joyner,
San Juan Field Office Manager, Colorado, Bureau of Land Management, USDI.

[FR Doc. 01-9 Filed 1-04-01; 8:45 am]

BILLING CODE 4310-JB-P